INTERNATIONAL TRADE COMMISSION

[Investigation No. 731-TA-991 (Review)]

Silicon Metal From Russia

Determination

On the basis of the record ¹ developed in the subject five-year review, the United States International Trade Commission (Commission) determines,² pursuant to section 751(c) of the Tariff Act of 1930 (19 U.S.C. 1675(c)), that revocation of the antidumping duty order on silicon metal from Russia would be likely to lead to continuation or recurrence of material injury to an industry in the United States within a reasonably foreseeable time.

¹ The record is defined in sec. 207.2(f) of the Commission's Rules of Practice and Procedure (19 CFR § 207.2(f)).

² Commissioner Okun did not participate in this determination.

Background

The Commission instituted this review on February 1, 2008 (73 FR 6204) and determined on May 6, 2008 that it would conduct an expedited review (73 FR 28153, May 15, 2008).

The Commission transmitted its determination in this review to the Secretary of Commerce on June 30, 2008. The views of the Commission are contained in USITC Publication 4018 (June 2008), entitled Silicon Metal From Russia: Investigation No. 731-TA-991 (Review).

By order of the Commission.
Issued: June 30, 2008.
Marilyn R. Abbott,
Secretary to the Commission.

[FR Doc. E8-15205 Filed 7-3-08; 8:45 am]

BILLING CODE 7020-02-P